ENVIRONMENTAL PROTECTION AGENCY

[FRL-7902-2]

Proposed Reissuance of General NPDES Permits (GP) for Alaskan Mechanical Placer Mining (Permit Number AKG-37-0000) and Alaskan Medium-Size Suction Dredging (Permit Number AKG-37-1000)

AGENCY: Environmental Protection Agency (EPA).

ACTION: Notice of proposed reissuance of two general permits.

SUMMARY: On October 3, 2005, two general permits regulating the activities of mechanical placer mining and suction dredge mining for gold placer mining operations in the State of Alaska expire. EPA proposes to reissue these two general permits with minor changes. EPA is proposing to make these permits effective as the previous general permits expire. This is also notice of EPA's issuance of a Finding of No Significant Impact (FNSI) for NPDES permit AKG-37-0000.

DATES: Interested persons may submit comments on the proposed reissuance of the general permits to EPA, Region 10 at the address below. Comments must be received by June 6, 2005.

ADDRESSES: Comments on the proposed General Permits and the Finding of No Significant Impact should be sent to Director, Office of Water and Watersheds; USEPA Region 10; 1200 Sixth Avenue, OWW-130; Seattle, Washington 98101.

FOR FURTHER INFORMATION CONTACT: Copies of the Draft General Permits and Fact Sheets are available upon request. The General Permits and Fact Sheets may be found on the Region 10 Web site at http://www.epa.gov/r10earth/waterpermits.htm (click on draft permits, then Alaska).

Requests may be made to Audrey Washington at (206) 553-0523 or to Cindi Godsey at (907) 271-6561 or electronically mailed to: washington.audrey@epa.gov or godsey.cindi@epa.gov.

SUPPLEMENTARY INFORMATION: Executive Order 12866: The Office of Management and Budget has exempted this action from the review requirements of Executive Order 12866 pursuant to section 6 of that order.

Regulatory Flexibility Act: After review of the facts presented in the notice printed above, I hereby certify pursuant to the provision of 5 U.S.C. 605(b) that this reissuance of these general permits will not have a significant impact on a substantial number of small entities. Moreover, the permit reduces a significant administrative burden on regulated sources.

Dated: April 11, 2005.
Michael F. Gearheard,
Director, Office of Water & Watersheds, Region 10.

[FR Doc. 05-8022 Filed 4-20-05; 8:45 am]

BILLING CODE 6560-50-P